DEPARTMENT OF TRANSPORTATION

National Highway Traffic Safety Administration

[Docket No. NHTSA-2016-0123]

Reports, Forms and Record Keeping Requirements Agency Information Collection Activity Under OMB Review

AGENCY: National Highway Traffic Safety Administration, DOT.

ACTION: Notice and request for comments.

SUMMARY: In compliance with the Paperwork Reduction Act of 1995, this notice announces that the Information Collection Request (ICR) abstracted below has been forwarded to the Office of Management and Budget (OMB) for review and comment. The ICR describes the nature of the information collections and their expected burden.

DATES: Comments must be submitted on or before May 25, 2017.

ADDRESSES: Send comments to the Office of Information and Regulatory Affairs, Office of Management and Budget, 725 17th Street NW., Washington, DC 20503, Attention: NHTSA Desk Officer.

FOR FURTHER INFORMATION CONTACT: For additional information or access to background documents, contact John Kindelberger, Office of Regulatory Analysis and Evaluation, National Highway Traffic Safety Administration, 1200 New Jersey Avenue SE., NSA-310, Washington, DC 20590. Mr. Kindelberger's telephone number is 202-366-4696.

SUPPLEMENTARY INFORMATION: Before a Federal agency can collect certain information from the public, it must receive approval from the Office of Management and Budget (OMB). In compliance with these requirements, this notice announces that the following information collection request has been forwarded to OMB. A Federal Register notice requesting comments on the following information collection was published on December 21, 2016 (81 FR 93728). The agency received no comments on that notice.

Title: Tire Pressure Monitoring System—Outage Rate and Repair Costs (TPMS-ORRC).

OMB Number: 2127-0626.

Type of Request: Revision of a currently approved collection.

Abstract: Improperly inflated tires pose a safety risk, increasing the chance of skidding, hydroplaning, longer stopping distances, and crashes due to flat tires and blowouts. Section 13 of the Transportation Recall Enhancement, Accountability, and Documentation (TREAD) Act, which Congress passed on November 1, 2000, directed NHTSA to conduct rulemaking actions to revise and update the Federal motor vehicle safety standards for tires, to improve labeling on tires, and to require a system in new motor vehicles that warns the operator when a tire is significantly underinflated.

Tire Pressure Monitoring Systems (TPMS) were mandated in Federal Motor Vehicle Safety Standard (FMVSS) No. 138, so that drivers are warned when the pressure in one or more of the vehicle's tires has fallen to 25 percent or more below the placard pressure, or a minimum level of pressure specified in the standard, whichever pressure is higher, and may be informed about which of the four tires is underinflated. As of September 1, 2007, after a phase-in period beginning on October 5, 2005, TPMS was required on all new light vehicles (i.e., passenger cars, trucks, multipurpose passenger vehicles, and buses with a gross vehicle weight rating of 10,000 pounds or less, except those vehicles with dual wheels on an axle).

Executive Order 12866 requires Federal agencies to evaluate their existing regulations and programs and measure their effectiveness in achieving their objectives. Since the phase-in of TPMS, there has been only one evaluation of TPMS. The TPMS-SS (OMB #2127-0626) was conducted in 2011, as a special study through the infrastructure of the National Automotive Sampling System (NASS), to collect nationally representative data on how effective TPMS was in reducing underinflation in the on-road fleet of passenger vehicles. Analysis of the survey results indicated that direct TPMS is 55.6-percent effective at preventing severe underinflation as defined in FMVSS No. 138. However, effectiveness was substantially lower in vehicles that were 6-7 years old at the time of the survey. One explanation as to why this is true was the possibility that the drivers of these older vehicles were not taking all the maintenance actions (e.g., adding TPMS sensors to new replacement tires, replacing non-functioning sensors on current tires, having the system properly re-set when needed) that were needed to insure the vehicles had functioning TPMS. Relevant data are needed to examine why the effectiveness of TPMSs in older vehicles is reduced and what can be done to increase it. This was the original goal of the TPMS-ORRC and is still a goal.

Additionally, on December 4, 2015, the Fixing America's Surface Transportation (FAST) Act (Pub. L. 114-94) was signed into law. An amendment (Section 24115) directs the Secretary of Transportation to update the standard on tire pressure monitoring systems, FMVSS No. 138, to ensure that they cannot be overridden, reset or recalibrated in a way that will prevent the system from identifying a tire that is significantly underinflated. The Act also states that the revised requirements shall not contain any provision that has the effect of prohibiting the availability of direct or indirect tire pressure monitoring systems. Data are needed to help inform the required rulemaking. For this purpose, the design of the TPMS-ORRC field survey has been changed from a convenience sample to a probability sample, allowing nationally representative estimates; this revision also adds a module for indirect TPMS.

Affected Public: Individuals and businesses.

Estimated Total Annual Burden: 1,352 hours.

Comments are Invited on: Whether the proposed collection of information is necessary for the proper performance of the functions of the Department, including: Whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended and 49 CFR 1.95.

Joseph M. Kolly,
Acting Associate Administrator, National Center for Statistics and Analysis.

[FR Doc. 2017-08355 Filed 4-24-17; 8:45 am]

BILLING CODE 4910-59-P